Proclamation 7292 of April 14, 2000

National Organ and Tissue Donor Awareness Week, 2000

By the President of the United States of America

A Proclamation

Organ and tissue transplantation offers us the extraordinary opportunity to share with others one of our most precious gifts—the gift of life. By donating tissues and organs, living donors and the families who have lost loved ones are rewarded with the knowledge that they have saved and enhanced many lives. Thanks to donors' generosity and compassion, transplant recipients across our country are able to work, care for their families, and look forward to a brighter future. Thanks to donors' selflessness, many children who were not expected to see their first birthday are playing, learning to walk, and entering school.

The future of the thousands of Americans awaiting transplants, however, depends on the willingness of their fellow citizens to become organ and tissue donors. More than 68,000 patients are on the national organ transplant waiting list; each day, 13 of them will die because the organs they need have not been donated; and every 16 minutes, a new name will be added to that waiting list.

To address this critical and growing need, Vice President Gore and Secretary of Health and Human Services Shalala launched the National Organ and Tissue Donation Initiative in December of 1997. This public-private partnership was designed to raise awareness of the success of organ and tissue transplantation and to educate our citizens about the urgent need for increased donation. Working with partners such as health care organizations, estate planning attorneys, faith communities, educational organizations, the media, minority organizations, and business leaders, the Initiative is reaching out to Americans of all ages, backgrounds, and races, asking them to consider donation. In its first year alone, the Initiative made a measurable impact, as organ donation increased by 5.6 percent.

But donations are still falling short nationwide. As we observe National Organ and Tissue Donor Awareness Week, I urge all Americans to consider becoming donors. Becoming a prospective organ and tissue donor is an easy, two-step process. Potential donors need only indicate their intention on their driver's license or donor card, which is available from a number of organizations by mail or on-line, and notify their families and friends of their wish to donate. I also encourage organ and tissue recipients to tell others how their lives and health have changed because of the generosity of a donor and his or her family; and I join the friends and families of donors in remembering with pride and gratitude all those who gave of themselves so that others might live.

NOW, THEREFORE, I, WILLIAM J. CLINTON, President of the United States of America, by virtue of the authority vested in me by the Constitution and laws of the United States, do hereby proclaim April 16 through April 22, 2000, as National Organ and Tissue Donor Awareness Week. I urge all health care professionals, educators, the media, public and private organizations concerned with organ donation and transplantation, and all Americans to join me in promoting greater awareness and acceptance of this humanitarian action.

IN WITNESS WHEREOF, I have hereunto set my hand this fourteenth day of April, in the year of our Lord two thousand, and of the Independence of the United States of America the two hundred and twenty-fourth.

wj

[FR Doc. 00-10003

Filed 4-19-00; 8:45 am]

Billing code 3195-01-P